DEPARTMENT OF ENERGY

Federal Energy Regulatory Commission

Notice of Application and Soliciting Comments, Motions To Intervene, and Protests

July 26, 2006.

a. Type of Application: Shoreline Management Plan.

b. Project Number: P-487-048.

c. Date Filed: July 7, 2006.

d. Applicant: PPL Holtwood, LLC.

e. Name of Project: Wallenpaupack Hydroelectric Project (FERC No. 487).

f. Location: The project is located on the Wallenpaupack Creek and the Lackawaxen River in Pike and Wayne Counties, Pennsylvania.

g. Filed Pursuant to: Federal Power Act, 16 U.S.C. 791 (a) 825(r) and 799 and 801.

h. Applicant Contact: Mr. Gary Petrewski, PPL Generation, LLC, Two North Ninth Street, Allentown, PA 18101. Phone: (610) 774-5996.

i. FERC Contact: Any questions on this notice should be addressed to Chris Yeakel at (202) 502-8132, or e-mail address: christopher.yeakel@ferc.gov.

j. Deadline for filing comments and or motions: August 25, 2006.

k. Description of Application: Under article 409 of the project license, the licensee has filed its proposed shoreline management plan for Commission approval. The plan incorporates existing standards, policies, and permitting processes for uses and activities located within the project boundary. The plan will assist the licensee in continuing to operate the project and manage the associated lands in compliance with the license requirements for recreation, safety and environmental protection while maintaining operational control over the impoundment for electrical generation. The plan includes a description of the permitting system for shoreline uses, access and maintenance, measures for stabilizing erosion, measures for cooperating with the multiple governing entities surrounding the project and coordinating adjacent land uses with shoreline uses, and measures for preserving the aesthetic quality of the shoreline.

l. Locations of the Application: A copy of the application is available for inspection and reproduction at the Commission's Public Reference Room, located at 888 First Street, NE. Room 2A, Washington, DC 20426, or by calling (202) 502-8371. This filing may also be viewed on the Commission's Web site at http://www.ferc.gov using the “eLibrary” link. Enter the docket number excluding the last three digits in the docket number field (p-487) to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, OR “MOTION TO INTERVENE”, as applicable, and the Project Number of the particular application to which the filing refers (p-487-048). All documents (original and eight copies) should be filed with: Magalie R. Salas, Secretary, Federal Energy Regulatory Commission, 888 First Street, NE., Washington, DC 20426. A copy of any motion to intervene must also be served upon each representative of the Applicant specified in the particular application.

p. Agency Comments: Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Magalie R. Salas,
Secretary.

[FR Doc. E6-12380 Filed 8-1-06; 8:45 am]

BILLING CODE 6717-01-P